DEPARTMENT OF COMMERCE

International Trade Administration

[A-449-804]

Notice of Final Determination of Sales at Less Than Fair Value: Steel Concrete Reinforcing Bars From Latvia

AGENCY: Import Administration, International Trade Administration, Department of Commerce.

EFFECTIVE DATE: June 22, 2001.

ACTION: Notice of final determinations of sales at less than fair value.

FOR FURTHER INFORMATION CONTACT: Christopher Smith or Gabriel Adler, at (202) 482-1442 or (202) 482-3813, respectively; AD/CVD Enforcement, Office 5, Group II, Import Administration, Room 1870, International Trade Administration, U.S. Department of Commerce, 14th Street and Constitution Avenue, NW., Washington, DC 20230.

SUPPLEMENTARY INFORMATION:

The Applicable Statute

Unless otherwise indicated, all citations to the statute are references to the provisions effective January 1, 1995, the effective date of the amendments made to the Tariff Act of 1930 (the Act) by the Uruguay Round Agreements Act (URAA). In addition, unless otherwise indicated, all citations to Department of Commerce (Department) regulations refer to the regulations codified at 19 CFR part 351 (April 2001).

Final Determination

We determine that steel concrete reinforcing bars (rebar) from Latvia are being sold, or are likely to be sold, in the United States at less than fair value (LTFV), as provided in section 735 of the Act. The estimated margins of sales at LTFV are shown in the Continuation of Suspension of Liquidation section of this notice.

Case History

The preliminary determination in this investigation was issued on January 16, 2001. See Notice of Preliminary Determination of Sales at Less Than Fair Value and Postponement of Final Determination: Steel Concrete Reinforcing Bars From Latvia, 66 FR 8348 (January 30, 2001) (Preliminary Determination). The petitioner ¹ and the sole respondent, JSC Liepajas Metalurgs (LM), filed case briefs on May 8, 2001, and rebuttal briefs on May 14, 2001.

¹ The petitioner in this investigation is the Rebar Trade Action Coalition (RTAC), and its individual members, AmeriSteel, Auburn Steel Co., Inc., Birmingham Steel Corp., Border Steel, Inc., Marion Steel Company, Riverview Steel, and Nucor Steel and CMC Steel Group.

Section 734(m) of the Act states that in the case of regional industry investigations, the administering authority shall offer exporters the opportunity to enter into suspension agreements. Proposed and finalized agreements in these cases must comport with the requirements set forth under section 734 of the Act for the suspension of antidumping duty investigations. The exporter participating in the instant investigation was aware of its opportunity to propose a suspension agreement. However, the Department did not accept a suspension agreement in this proceeding. See Memorandum from Holly A. Kuga to The File, dated April 2, 2001.

Scope of Investigation

For purposes of this investigation, the product covered is all steel concrete reinforcing bars sold in straight lengths, currently classifiable in the Harmonized Tariff Schedule of the United States (HTSUS) under item number 7214.20.00 or any other tariff item number. Specifically excluded are plain rounds (i.e., non-deformed or smooth bars) and rebar that has been further processed through bending or coating. HTSUS subheadings are provided for convenience and Customs purposes. The written description of the scope of this proceeding is dispositive.

Period of Investigation

The period of investigation (POI) is April 1, 1999, through March 31, 2000. This period corresponds to the four most recent fiscal quarters prior to the month of the filing of the petition (i.e., June 2000).

Verification

As provided in section 782(i) of the Act, we conducted verification of the cost and sales information submitted by LM from February 26 through March 2, 2001, and April 9 through April 13, 2001, respectively. We used standard verification procedures including examination of relevant accounting and production records, and original source documents provided by the respondent.

Analysis of Comments Received

All issues raised in the case and rebuttal briefs by parties to this antidumping proceeding are listed in the Appendix to this notice and addressed in the Decision Memorandum for the instant investigation, dated June 14, 2001, which is hereby adopted by this notice. The Decision Memorandum for this case is on file in room B-099 of the main Department of Commerce building. In addition, a complete version of the Decision Memorandum can be accessed directly on the World Wide Web at http://ia.ita.doc.gov/frn/summary/list.htm. The paper and electronic versions of the Decision Memorandum are identical in content.

Changes Since the Preliminary Determinations

Based on our findings at verification and analysis of comments received, we have made adjustments to the calculation methodology in calculating the final dumping margins in this proceeding. These adjustments are discussed in detail in the Decision Memorandum. For the final determination, we (1) revised the reported brokerage expense for the U.S. and German markets to account for the respondent's clerical errors and a verification finding; and (2) revised the general and administrative expense ratio to account for findings at verification.

Critical Circumstances

Based on our analysis of the information on the record of this investigation, we have determined, for purposes of the final determination, that critical circumstances do not exist with respect to imports of rebar from Latvia. For further details, see Memorandum from Gary Taverman to Bernard T. Carreau, “Antidumping Duty Investigation of Steel Concrete Reinforcing Bars from Latvia—Final Determination of Critical Circumstances,” dated June 14, 2001.

Final Determination of Investigation

We determine that the following weighted-average percentage dumping margins for Latvia exist in the period April 1, 1999, through March 31, 2000:

Manufacturer/exporter | Margin (percent)
Liepajas Metalurgs | 17.21
All Others | 17.21

Continuation of Suspension of Liquidation

Pursuant to section 735(c)(1)(B) of the Act, we are instructing the U.S. Customs Service to continue to suspend liquidation of all entries of rebar from Latvia that are entered, or withdrawn from warehouse, for consumption on or after January 30, 2001 (the date of publication of the Preliminary Determination in the Federal Register). The Customs Service shall continue to require a cash deposit or the posting of a bond equal to the estimated amount by which the normal value exceeds the U.S. price as shown above. The suspension of liquidation instructions will remain in effect until further notice.

International Trade Commission Notification

In accordance with section 735(d) of the Act, we have notified the International Trade Commission (ITC) of our determination. As our final determination is affirmative, the ITC will determine, within 45 days, whether imports of subject merchandise are causing material injury, or threaten material injury, to an industry in the United States. If the ITC determines that material injury or threat of injury does not exist, the proceedings will be terminated and all securities posted will be refunded or canceled. If the ITC determines that such injury does exist, the Department will issue an antidumping order directing Customs Service officials to assess antidumping duties on all imports of the subject merchandise entered, or withdrawn from warehouse, for consumption on or after the effective date of the suspension of liquidation.

This determination is issued and published in accordance with sections 735(d) and 777(i)(1) of the Act.

Dated: June 14, 2001.
Faryar Shirzad,
Assistant Secretary for Import Administration.

Appendix—Issues in Decision Memorandum

1. Whether LM Is Affiliated with a Trading Company

2. Facts Available

3. Brokerage Expenses in the Third Country Market

4. Inclusion of Non-Operating Expenses in Revised G&A Ratio

5. Credit Expenses

[FR Doc. 01-15744 Filed 6-21-01; 8:45 am]

BILLING CODE 3510-DS-P